DEPARTMENT OF THE TREASURY

United States Mint

Establish Prices for 2023 United States Mint Silver Numismatic Products

AGENCY: United States Mint, Department of the Treasury.

ACTION: Notice.

SUMMARY: The United States Mint is announcing pricing for United States Mint numismatic products in accordance with the table below:

Product | 2023 Retail price
Morgan Dollar—Uncirculated | $67.00
Peace Dollar—Uncirculated | 67.00
Morgan Dollar—Proof | 73.00
Peace Dollar—Proof | 73.00
Morgan and Peace Dollar Two-Coin Reverse Proof Set™ | 175.00

FOR FURTHER INFORMATION CONTACT: Customer Service; United States Mint; 801 9th Street NW; Washington, DC 20220; or call 1-800-USA-MINT.

Authority: Public Law 116-286.

Eric Anderson,
Executive Secretary, United States Mint.

[FR Doc. 2022-13861 Filed 6-28-22; 8:45 am]

BILLING CODE 4810-37-P